SECURITIES AND EXCHANGE COMMISSION

[Release No. 34-60198; File No. SR-BX-2009-034]

Self-Regulatory Organizations; NASDAQ OMX BX, Inc.; Notice of Filing and Order Granting Accelerated Approval of Proposed Rule Change to Amend the Fee Schedule of the Boston Options Exchange Facility

Correction

In notice document E9-16036 beginning on page 32212 in the issue of Tuesday, July 7, 2009, make the following correction:

On page 32213, in the third column, in the 17th line from the top, “July 29, 2009” should read “July 28, 2009”.

[FR Doc. Z9-16036 Filed 7-9-09; 8:45 am]

BILLING CODE 1505-01-D